DEPARTMENT OF HOUSING AND URBAN DEVELOPMENT

[Docket No. FR-5907-N-48]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following address(es): ARMY: Ms. Veronica Rines, Office of the Assistant Chief of Staff for Installation Management, Department of Army, Room 5A128, 600 Army Pentagon, Washington, DC 20310, (571) 256-8145; COE: Ms. Brenda Johnson-Turner, HQUSACE/CEMP-CR, 441 G Street NW., Washington, DC 20314, (202) 761-7238; (These are not toll-free numbers).

Dated: November 17, 2016.
Brian P. Fitzmaurice,
Director, Division of Community Assistance, Office of Special Needs Assistance Programs.

TITLE V, FEDERAL SURPLUS PROPERTY PROGRAM FEDERAL REGISTER REPORT FOR 11/25/2016

Suitable/Available Properties

Building

Alabama

4735; RPUID: 186113

Fort Rucker

Ft. Rucker AL 36362

Landholding Agency: Army

Property Number: 21201640006

Status: Unutilized

Comments: off-site removal only; no future agency need; 106 sq. ft.; relocation difficult due to type; 48+ months vacant; contact Army for accessibility and conditions.

Colorado

09301

Fort Carson

Ft. Carson CO 80913

Landholding Agency: Army

Property Number: 21201640001

Status: Underutilized

Comments: off-site removal only; 2,680 sq. ft.; relocation extremely difficult due to size/type; Administrative; 2+ months vacant; maintenance/repair needed; contact Army for more info.

Louisiana

00426; RPUID: 190313

Fort Polk

Ft. Polk LA 71459

Landholding Agency: Army

Property Number: 21201640002

Status: Underutilized

Comments: off-site removal only; no future agency need; 3,083 sq. ft.; relocation extremely difficult due to size/type; lodging; poor conditions; contact Army for more info.

00425; RPUID: 292914

Fort Polk

Ft. Polk LA 71459

Landholding Agency: Army

Property Number: 21201640003

Status: Underutilized

Comments: off-site removal only; no future agency need; 960 sq. ft.; relocation difficult due to type; lodging; poor conditions; contact Army for more info.

03603; RPUID: 293084

Fort Polk

Ft. Polk LA 71459

Landholding Agency: Army

Property Number: 21201640004

Status: Underutilized

Comments: off-site removal only; no future agency need; 1,932 sq. ft.; relocation difficult due to size/type; admin. office; contact Army for more info.

03602; RPUID: 293083

Fort Polk

Ft. Polk LA 71459

Landholding Agency: Army

Property Number: 21201640005

Status: Underutilized

Comments: off-site removal only; no future agency need; 1,932 sq. ft.; relocation difficult due to size/type; poor conditions; contact Army for more info.

Minnesota

2 Buildings

Rusk County Veterans Memorial

Ladysmith MN 54848

Landholding Agency: Army

Property Number: 21201640010

Status: Excess

Directions: DY001-16,257 sq. ft. (225300); DY002-2,280 sq. ft. (225301)

Comments: off-site removal only; relocation extremely difficult due to size/type; fair/poor conditions; contact Army for more info. on a specific property listed above.

Virginia

1201; RPUID: 572697

Fort A.P. Hill

Ft. A.P. Hill VA 22427

Landholding Agency: Army

Property Number: 21201640008

Status: Underutilized

Comments: off-site removal only; no future agency need; relocation extremely difficult due to size/type; airfield ops. bldg.; fair/poor conditions; contact Army for more info.

Wisconsin

5 Buildings

Milwaukee USARC/AMSA #49

Milwaukee WI 53218

Landholding Agency: Army

Property Number: 21201640011

Status: Unutilized

Directions: 00312-3,216 sq. ft. (968290); 00308-14,903 sq. ft. (968288); 00307-9,657 sq. ft. (968287); 00316-54 sq. ft. (587956); 00314-136 sq. ft. (621067)

Comments: off-site removal only; no future agency need; relocation extremely difficult for some due to size/type; poor conditions; contact Army for more info. on a specific property listed above.

Unsuitable Properties

Building

Nevada

10139; RPUID: 330786

Hawthorne Army Depot

Hawthorne NV 89415

Landholding Agency: Army

Property Number: 21201640007

Status: Unutilized

Comments: public access denied and no alternative method to gain access without compromising national security.

Reasons: Secured Area

North Carolina

9 Buildings

Fort Bragg

Ft Bragg NC 28310

Landholding Agency: Army

Property Number: 21201640013

Status: Unutilized

Directions: M1650-306646; M1750-298672; M2148-296765; 13151-608821; 86606-577995; 87006-604470; A2875-576093; D2612-600085; H5748-620204

Comments: public access denied and no alternative method to gain access without compromising national security.

Reasons: Secured Area

Oklahoma

2 Buildings

Hwy 9 East & Hwy 9 North

Stigler OK 74462

Landholding Agency: COE

Property Number: 31201640017

Status: Unutilized

Directions: NLC01; NLNC06

Comments: documented deficiencies: significant damage to structures; clear threat to physical safety.

Reasons: Extensive deterioration

Tennessee

5 Buildings

Fort Campbell

Ft. Campbell TN 42223

Landholding Agency: Army

Property Number: 21201640014

Status: Unutilized

Directions: 00712-610380; 03710-587231; A7156-617910; 00176-567327; 00711-606990

Comments: public access denied and no alternative method to gain access without compromising national security.

Reasons: Secured Area

Texas

Building 11107

Biggs Army Airfield Flight line

Fort Bliss TX 79916

Landholding Agency: Army

Property Number: 21201640012

Status: Excess

Comments: public access denied and no alternative method to gain access without compromising national security.

Reasons: Secured Area

Vermont

2 Buildings

Ethan Allen AFB

Colchester VT 05446

Landholding Agency: Army

Property Number: 21201640009

Status: Underutilized

Directions: 02415 (370592); 02425 (370594)

Comments: documented deficiencies: holes in roof; cracks in walls; mostly likely to collapse; unsound foundation; clear threat to physical safety.

Reasons: Extensive deterioration

[FR Doc. 2016-28133 Filed 11-23-16; 8:45 am]

BILLING CODE 4210-67-P